DEPARTMENT OF COMMERCE

National Oceanic and Atmospheric Administration

RIN 0648-XD619

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Research Steering Committee on December 3, 2014.

DATES: This meeting will be held on Wednesday, December 3, 2014 at 9:30 a.m.

ADDRESSES: Meeting address: The meeting will be held at the Hotel Providence, 139 Mathewson Street, Providence, RI 02048; telephone: (401) 861-8000; fax: (401) 454-4306.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Research Steering Committee will: (a) Review the final report for the cooperative research project “Large Mesh [Belly] Panel in Small Mesh Fisheries as a Method to Reduce Yellowtail Flounder Bycatch in Southeast Georges Bank”; (b) review the draft report on the use of Large Mesh Belly Panel to Reduce Yellowtail Flounder and Windowpane Flounder Bycatch in the small mesh fishery on Cultivator Shoal and (c) discuss possible improvements to the research set-aside process. The Committee also may receive an update on the Council-funded collaborative groundfish research project managed by the Northeast Consortium. Other agenda items may also be discussed.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: November 12, 2014.
Tracey L. Thompson,
Acting Deputy Director, Office of Sustainable Fisheries, National Marine Fisheries Service.

[FR Doc. 2014-27121 Filed 11-14-14; 8:45 am]

BILLING CODE 3510-22-P